DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On November 1, 2022, OFAC determined that the property and interests in property subject to U.S. jurisdiction of the following persons are blocked under the relevant sanctions authority listed below.

Individuals

1. ADEN, Mahad Isse (a.k.a. AADAN, Mahad Ciise; a.k.a. ADAN, Mahad Isse; a.k.a. MUHAMMAD, Mahad Cise; a.k.a. “LABOBALLE”), Bosaso, Somalia; Qandala, Somalia; DOB 1949; nationality Somalia; Gender Male; Secondary sanctions risk: section 1(b) of Executive Order 13224, as amended by Executive Order 13886 (individual) [SDGT] (Linked To: ISIS-SOMALIA).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, ISIS-SOMALIA, a person whose property and interests in property are blocked pursuant to E.O. 13224.

2. ISSE MOHAMUD, Abdirahman Fahiye (a.k.a. `ISA, Abd-al-Rahman Fahiye; a.k.a. “ADEN, Ahmed”; a.k.a. “AL-SHARQAWI, Shaykh Abu-Mus'ab”; a.k.a. “FAHIYE, Abdirahman”), Somalia; DOB 1985; POB Bosaso, Somalia; nationality Somalia; Gender Male; Secondary sanctions risk: section 1(b) of Executive Order 13224, as amended by Executive Order 13886 (individual) [SDGT] (Linked To: ISIS-SOMALIA).

Designated pursuant to section 1(a)(iii)(C) of E.O. 13224, as amended, for having materially assisted, sponsored, or provided financial, material, or technological support for, or goods or services to or in support of, ISIS-SOMALIA, a person whose property and interests in property are blocked pursuant to E.O. 13224.

3. MOHAMED, Liibaan Yousuf (a.k.a. MOHAMED, Liban Yusuf; a.k.a. “DHEERE, Liban”), Puntland, Somalia; Yaqshid District, Mogadishu, Somalia; DOB 1978; nationality Somalia; Gender Male; Secondary sanctions risk: section 1(b) of Executive Order 13224, as amended by Executive Order 13886 (individual) [SDGT] (Linked To: ISIS-SOMALIA).

Designated pursuant to section 1(a)(iii)(C) of E.O. 13224, as amended, for having materially assisted, sponsored, or provided financial, material, or technological support for, or goods or services to or in support of, ISIS-SOMALIA, a person whose property and interests in property are blocked pursuant to E.O. 13224.

4. OMAR, Abdirahman Mohamed (a.k.a. CUMAR, Cabdi Maxamed; a.k.a. CUMAR, Cabdiraxman Maxamed; a.k.a. DHUFAAYE, Cabdi Muhammad; a.k.a. “DHOFAYE”; a.k.a. “DHOOFAYE”; a.k.a. “OMAR, Abdi Mohamed”), Bosaso, Somalia; DOB 1962; POB Bosaso, Somalia; nationality Somalia; Gender Male; Secondary sanctions risk: section 1(b) of Executive Order 13224, as amended by Executive Order 13886 (individual) [SDGT] (Linked To: ISIS-SOMALIA).

Designated pursuant to section 1(a)(iii)(C) of E.O. 13224, as amended, for having materially assisted, sponsored, or provided financial, material, or technological support for, or goods or services to or in support of, ISIS-SOMALIA, a person whose property and interests in property are blocked pursuant to E.O. 13224.

5. OMAR, Ahmed Haji Ali Haji (a.k.a. “ALI, Ahmed Omar”; a.k.a. “ALI, Ahmed Omer Haji”; a.k.a. “BEERDHAGAX”; a.k.a. “BEERDHEGHAX”; a.k.a. “BERDAGAX”; a.k.a. “BEER DHAGAH”), Bosaso, Bari, Somalia; DOB Jun 1974; POB Alula District, Bari, Puntland, Somalia; nationality Somalia; Gender Male; Secondary sanctions risk: section 1(b) of Executive Order 13224, as amended by Executive Order 13886 (individual) [SDGT] (Linked To: ISIS-SOMALIA).

Designated pursuant to section 1(a)(iii)(C) of E.O. 13224, as amended, for having materially assisted, sponsored, or provided financial, material, or technological support for, or goods or services to or in support of, ISIS-SOMALIA, a person whose property and interests in property are blocked pursuant to E.O. 13224.

6. QAHIYE, Mohamed Ahmed, Mozambique; Puntland, Somalia; DOB 1989; alt. DOB 1990; alt. DOB 1991; nationality Somalia; Gender Male; Secondary sanctions risk: section 1(b) of Executive Order 13224, as amended by Executive Order 13886 (individual) [SDGT] (Linked To: ISIS-SOMALIA).

Designated pursuant to section 1(a)(iii)(C) of E.O. 13224, as amended, for having materially assisted, sponsored, or provided financial, material, or technological support for, or goods or services to or in support of, ISIS-SOMALIA, a person whose property and interests in property are blocked pursuant to E.O. 13224.

7. YUSUF, Isse Mohamoud (a.k.a. YUSUF, Isse Mohamed; a.k.a. “YULLUX”; a.k.a. “YULUH, Issa”; a.k.a. “YULUH, Isse”; a.k.a. “YULUX, Isse”), Timirshe, Bari, Puntland, Somalia; Qandala, Somalia; DOB 1966; POB Timirshe, Bari, Puntland, Somalia; nationality Somalia; Gender Male; Secondary sanctions risk: section 1(b) of Executive Order 13224, as amended by Executive Order 13886 (individual) [SDGT] (Linked To: ISIS-SOMALIA).

Designated pursuant to section 1(a)(iii)(C) of E.O. 13224, as amended, for having materially assisted, sponsored, or provided financial, material, or technological support for, or goods or services to or in support of, ISIS-SOMALIA, a person whose property and interests in property are blocked pursuant to E.O. 13224.

8. BAKR, Osama Abdelmongy Abdalla (a.k.a. BAKR, Osama Abd Elmongy Abdalla; a.k.a. BAKR, Osama Abdelmongy Abdallah; a.k.a. BAKR, Osama Ebdelmongy Abdalla), Rua Joaquim Nabuco 15, Alto Parana, Parana 87750-000, Brazil; DOB 08 Sep 1968; POB Port Said, Egypt; nationality Egypt; alt. nationality Brazil; Gender Male; Secondary sanctions risk: section 1(b) of Executive Order 13224, as amended by Executive Order 13886; Identification Number V356783-K (Brazil); alt. Identification Number 83423818034 (Brazil); alt. Identification Number 07229181914 (Brazil); alt. Identification Number 154564654 (Brazil) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

OFAC also published the following revised information for the entry on the SDN List for the following entity, whose property and interests in property are blocked pursuant to Executive Order 13224 of September 23, 2001, “Blocking Property and Prohibiting Transactions With Persons Who Commit, Threaten To Commit, or Support Terrorism”:

Entity

1. LIIBAAN GENERAL TRADING CO. (a.k.a. AL-LIIBAAN GENERAL TRADING CO.; a.k.a. LIBAN TRADING; a.k.a. LIIBAAN TRADING; a.k.a. LIIBAN TRADING), Bosaso, Somalia; Secondary sanctions risk: section 1(b) of Executive Order 13224, as amended by Executive Order 13886; Registration Number 14(RV. NO: 103100149) (Somalia) [SDGT] (Linked To: YUSUF, Mohamed Mire Ali; Linked To: MOHAMED, Liibaan Yousuf).

Designated pursuant to section 1(a)(iii)(A) of E.O. 13224, as amended, for being owned, controlled, or directed by, directly or indirectly, Liibaan Yousuf MOHAMED, a person whose property and interests in property are blocked pursuant to E.O. 13224, as amended.

Dated: November 1, 2022.
Andrea M. Gacki,
Director, Office of Foreign Assets Control, U.S. Department of the Treasury.

[FR Doc. 2022-24052 Filed 11-3-22; 8:45 am]

BILLING CODE 4810-AL-P